DEPARTMENT OF THE INTERIOR

Office of Natural Resources Revenue

[Docket No. ONRR-2011-0019; DS63642000 DR2000000.CH7000 167D0102R2]

Major Portion Prices and Due Date for Additional Royalty Payments on Indian Gas Production in Designated Areas Not Associated With an Index Zone

AGENCY: Office of Natural Resources Revenue (ONRR), Interior.

ACTION: Amendment.

SUMMARY: On June 8, 2016, ONRR published (at 81 FR 36954) a notice of the due date for industry to pay additional royalties based on the major portion prices, titled “Major Portion Prices and Due Date for Additional Royalty Payments on Indian Gas Production in Designated Areas Not Associated with an Index Zone.” ONRR is amending the due date to pay additional royalties based on the major portion prices from August 8, 2016 to August 31, 2016.

FOR FURTHER INFORMATION CONTACT: Michael Curry, Manager, Denver B, Western Audit & Compliance, ONRR; telephone (303) 231-3741; fax number (303) 231-3473; email Michael.Curry@onrr.gov; or Rob Francoeur, Denver B, Team 2, Western Audit & Compliance, ONRR; telephone (303) 231-3723; fax (303) 231-3473; email Rob.Francoeur@onrr.gov. Mailing address: Office of Natural Resources Revenue, Western Audit & Compliance, Denver B, P.O. Box 25165, MS 62520B, Denver, Colorado 80225-0165.

Dated: July 19, 2016.
Gregory J. Gould,
Director, Office of Natural Resources Revenue.

[FR Doc. 2016-17600 Filed 7-25-16; 8:45 am]

BILLING CODE 4335-30-P